DEPARTMENT OF TRANSPORTATION

Federal Highway Administration

Notice of Final Federal Agency Actions on Proposed Highway in Minnesota

AGENCY: Federal Highway Administration (FHWA), DOT.

ACTION: Notice of Limitation on Claims for Judicial Review of Actions by FHWA and Other Federal Agencies.

SUMMARY: This notice announces actions taken by the FHWA and other Federal agencies that are final within the meaning of 23 U.S.C. 139(l)(1). The actions relate to a proposed highway project, the Interstate (I)-94/Trunk Highway (TH) 10 Interregional Connection from west of Becker to east of St. Cloud in Sherburne, Stearns and Wright Counties, Minnesota. Those actions grant approvals for the project.

DATES: By this notice, the FHWA is advising the public of final agency actions subject to 23 U.S.C. 139(l)(1). A claim seeking judicial review of the Federal agency actions of the highway project will be barred unless the claim is filed on or before 180 days from the date of this notice. If the Federal law that authorizes judicial review of a claim provides a time period of less than 180 days for filing such claim, then that shorter time period still applies.

FOR FURTHER INFORMATION CONTACT: For FHWA: Mr. Thomas Sorel, Division Administrator, Federal Highway Administration, Galtier Plaza, Suite 500, 380 Jackson Street, St. Paul, Minnesota 55101, Telephone (651) 291-6100, e-mail: Thomas.sorel@fhwa.dot.gov. The Minnesota Division Office's normal business hours are 7:30 a.m. to 4 p.m. (central time). For the Minnesota Department of Transportation (Mn/DOT): Mr. Terry Humbert—District 3, 3725—12th Street North, Mail Stop 031, St. Cloud, Minnesota 56303-2130, Telephone (320) 223-6527, (800) 627-3529 TTY, e-mail: Terry.Humbert@state.mn.us.

SUPPLEMENTARY INFORMATION: Notice is hereby given that the FHWA and other Federal agencies have taken final agency actions by issuing approvals for the following highway project in Minnesota: I-94/TH 10 Interregional Connection from Clearwater, Wright County to Clear Lake, Sherburne County, Minnesota. The project will be an approximately 5.4-mile, four-lane freeway with interchanges at I-94 and TH 10 and a grade-separated rail crossing near TH 10 and includes the construction of a new crossing of the Mississippi River. The project also includes an interchange at existing TH 24 to provide local access to/from the Cities of Clear Lake and Clearwater. The actions by the Federal agencies, and the laws under which such actions were taken, are described in the Final Environmental Impact Statement (FEIS), approved on December 21, 2006, in the FHWA Record of Decision (ROD) issued on September 7, 2007, and in other documents in the FHWA project files. The FEIS, ROD and other project records are available by contacting the FHWA or Mn/DOT at the addresses provided above. The FHWA FEIS and ROD can be viewed and downloaded from the project Web site at http://www.dot.state.mn.us/d3/projects/interregionalconnection/index.html.

This notice applies to all Federal agency decisions as of the issuance date of this notice and all laws under which such actions were taken, including but not limited to:

1. General: National Environmental Policy Act (NEPA) [42 U.S.C. 4321-4351]; Federal-Aid Highway Act [23 U.S.C. 109].

2. Land: Section 4(f) of the Department of Transportation Act of 1966 [49 U.S.C. 303]; Landscaping and Scenic Enhancement (Wildflowers) [23 U.S.C. 319].

3. Wildlife: Endangered Species Act [16 U.S.C. 1531-1544 and section 1536]; Fish and Wildlife Coordination Act [16 U.S.C. 661-667(d)]; Migratory Bird Treaty Act [16 U.S.C. 703-712].

4. Historic and Cultural Resources: Section 106 of the National Historic Preservation Act of 1966, as amended [16 U.S.C. 470(f) et seq.]; Archaeological and Historic Preservation Act [16 U.S.C. 469-469(c)].

5. Social and Economic: Civil Rights Act of 1964 [42 U.S.C. 2000(d)-2000(d)(1)]; Farmland Protection Policy Act (FPPA) [7 U.S.C. 4201-4209].

6. Safe Drinking Water Act (SDWA) [42 U.S.C. 300(f)-300(j)(6)]; Flood Disaster Protection Act [42 U.S.C. 4001-4128].

7. Executive Orders: E.O. 11990, Protection of Wetlands; E.O. 11988, Floodplain Management; E.O. 12898, Federal Actions to address Environmental Justice in Minority Populations and Low Income Populations; E.O. 11593, Protection and Enhancement of Cultural Resources; E.O. 13007, Indian Sacred Sites; E.O. 13287, Preserve America; E.O. 13175, Consultation and Coordination with Indian Tribal Governments; E.O. 11514, Protection and Enhancement of Environmental Quality; E.O. 13112, Invasive Species.

(Catalog of Federal Domestic Assistance Program Number 20.205, Highway Planning and Construction. The regulations implementing Executive Order 12372 regarding intergovernmental consultation on Federal programs and activities apply to this program.)

Authority: U.S.C. 139(l)(1).

Issued on: October 5, 2007.
Thomas K. Sorel,
Division Administrator, Federal Highway Administration, St. Paul, Minnesota.

[FR Doc. 07-5044 Filed 10-11-07; 8:45 am]

BILLING CODE 4910-22-M